DEPARTMENT OF HOMELAND SECURITY

Federal Emergency Management Agency

44 CFR Part 65

[Docket No. FEMA-P-7638]

Changes in Flood Elevation Determinations

AGENCY: Federal Emergency Management Agency, Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas:
Sebastian (Case No.: 03-06-847P) | City of Fort Smith | Sept. 15, 2004, Sept. 22, 2004, Southwest Times Record | The Honorable C. Ray Baker, Jr., Mayor, City of Fort Smith, 4420 Victoria Drive, Fort Smith, AR 72904 | Sept. 27, 2004 | 055013
Pulaski (Case No.: 04-06-1607P) | City of Jacksonville | July 14, 2004, July 21, 2004, Jacksonville Patriot | The Honorable Tommy Swaim, Mayor, City of Jacksonville, P.O. Box 126, Jacksonville, AR 72076-0126 | July 27, 2004 | 050180
Pulaski (Case No.: 03-06-697P) | City of Little Rock | Sept. 15, 2004, Sept. 22, 2004, Little Rock Free Press | The Honorable Jim Dailey, Mayor, City of Little Rock, 500 West Markham, Room 203, Little Rock, AR 72201 | Dec. 22, 2004 | 050181
Pulaski (Case No.: 03-06-2526P) | City of Little Rock | Aug. 4, 2004, Aug. 11, 2004, Little Rock Free Press | The Honorable Jim Dailey, Mayor, City of Little Rock, 500 West Markham, Room 203, Little Rock, AR 72201 | Nov. 10, 2004 | 050181
Pope (Case No.: 04-06-853P) | City of Russellville | Sept. 3, 2004, Sept. 10, 2004, The Courier | The Honorable Raye Turner, Mayor, City of Russellville, P.O. Box 428, Russellville, AR 72811 | Aug. 11, 2004 | 050178
Illinois:
Will (Case No.: 03-05-5771P) | Village of Bolingbrook | Aug. 20, 2004, Aug. 27, 2004, The Bolingbrook Sun | The Honorable Roger Claar, Mayor, Village of Bolingbrook, 375 West Briarcliff Road, Bolingbrook, IL 60440 | July 27, 2003 | 170812
Cook (Case No.: 03-05-3989P) | Unincorporated Areas | June 24, 2004, July 1, 2004, Orland Township Messenger | Mr. John H. Stroger, Jr., President, Cook County Board of Commissioners, 118 North Clark Street, 5th Floor, Chicago, IL 60602 | Sept. 30, 2004 | 170054
Will (Case No.: 04-05-0768P) | Village of Frankfort | July 22, 2004, July 29, 2004, The Star | The Honorable Raymond E. Rossi, Mayor, Village of Frankfort, 432 West Nebraska Street, Frankfort, IL 60423 | June 29, 2004 | 170701
McHenry (Case No.: 04-05-0758P) | City of Marengo | Aug. 24, 2004, Aug. 31, 2004, The Northwest Herald | The Hon. Dennis Hammortree, Mayor, City of Marengo, 132 East Prairie Street, Marengo, IL 60152 | Nov. 30, 2004 | 170482
Cook (Case No.: 03-05-3989P) | Village of Orland Park | June 24, 2004, July 1, 2004, Orland Township Messenger | The Honorable Daniel McLaughlin, Mayor, Village of Orland Park, Village Hall, 14700 South Ravinia Avenue, Orland Park, IL 60462 | Sept. 30, 2004 | 170140
Will County (Case No.: 04-05-0769P) | Village of Plainfield | Sept. 22, 2004, Sept. 29, 2004, The Enterprise | The Honorable Richard Rock, Mayor, Village of Plainfield, 24000 West Lockport Street, Plainfield, IL 60544 | Sept. 9, 2004 | 170771
Will (Case No.: 04-05-1634P) | Village of Plainfield | June 23, 2004, June 30, 2004, The Enterprise | The Honorable Richard Rock, Mayor, Village of Plainfield, 24000 West Lockport Street, Plainfield, IL 60544 | July 12, 2004 | 170771
Will County (Case No.: 03-05-1850P) | Village of Shorewood | Sept. 14, 2004, Sept. 21, 2004, The Herald News | The Hon. Richard E. Chapman, Village President, Village of Shorewood, 903 West Jefferson Street, Shorewood, IL 60431 | Aug. 27, 2004 | 170712
Cook (Case No.: 03-05-1457P) | Village of Tinley Park | July 22, 2004, July 29, 2004, The Courier News | The Honorable Edward J. Zabrocki, Mayor, Village of Tinley Park, 16250 South Oak Park Avenue, Tinley Park, IL 60477 | July 30, 2004 | 170169
Will (Case No.: 04-05-1634P) | Unincorporated Areas | June 23, 2004, June 30, 2004, The Enterprise | Mr. Joseph Mikan, Executive, Will County, Will County Office Building, 302 North Chicago Street, Joliet, IL 60432 | July 12, 2004 | 170695
Will County (Case No.: 03-05-1850P) | Unincorporated Areas | Sept. 14, 2004, Sept. 21, 2004, The Herald News | The Honorable Joseph Mikan, Executive, Will County, Will County Office Building, 302 North Chicago Street, Joliet, IL 60432 | Aug. 27, 2004 | 170695
Indiana:
Johnson (Case No.: 04-05-0097P) | City of Greenwood | Aug. 4, 2004, Aug. 11, 2004, The Daily Journal | The Honorable Charles Henderson, Mayor, City of Greenwood, 2 North Madison Avenue, Greenwood, IN 46142 | July 12, 2004 | 180115
Marion (Case No.: 03-05-3389P) | City of Indianapolis | Aug. 20, 2004, Aug. 27, 2004, The Indianapolis Star | The Honorable Barthen Peterson, Mayor, City of Indianapolis, 200 East Washington Street, Suite 2501, City-County Building, Indianapolis, IN 46204 | Nov. 26, 2004 | 180159
Kansas
Saline (Case No.: 04-07-037P) | City of Salina | June 23, 2004, June 30, 2004, The Salina Journal | The Honorable Allan E. Jilka, Mayor, City of Salina, 300 West Ash Street, P.O. Box 736, Salina, KS 67402 | Sept. 29, 2004 | 200319
Saline (Case No.: 04-07-037P) | Unincorporated Areas | June 23, 2004, June 30, 2004, The Salina Journal | Ms. Sherri Barragree, Chairman, Saline County Comm., 300 West Ash Street, Room 211, Salina, KS 67401 | Sept. 29, 2004 | 200316
Sedgwick (Case No.: 03-07-878P) | City of Wichita | June 23, 2004, June 30, 2004, The Wichita Eagle | The Honorable Carlos Mayans, Mayor, City of Wichita, City Hall—1st Floor, 455 North Main Street, Wichita, KS 67202 | June 17, 2004 | 200328
Maryland:
Montgomery (Case No.: 03-03-133P) | City of Rockville | Aug. 11, 2004, 18, 2004, The Montgomery Journal | The Honorable Larry Giammo, Mayor, City of Rockville, Rockville City Hall, 111 Maryland Avenue, Rockville, MD 20850 | Nov. 17, 2004 | 240051
Michigan:
Genesee (Case No.: 03-05-2569P) | City of Grand Blanc | July 22, 2004, July 29, 2004, The Flint Journal | Mr. Randall Byrne, City Manager, City of Grand Blanc, 203 East Grand Blanc Road, Grand Blanc, MI 48439 | June 29, 2004 | 260255
Oakland (Case No.: 03-05-5184P) | City of Novi | July 15, 2004, July 22, 2004, The Novi News | The Honorable Lou Casordas, Mayor, City of Novi, 45175 West Ten Mile Road, Novi, MI 48375 | Aug. 2, 2004 | 260175
Minnesota:
Anoka (Case No.: 03-05-3380P) | City of Blaine | Aug. 13, 2004, Aug. 20, 2004, Blaine-Spring Lake Park Life | The Honorable Tom Ryan, Mayor, City of Blaine, 12147 Radisson Road NE, Blaine, MN 55449 | July 26, 2004 | 270007
Isanti (Case No.: 03-05-3978P) | Unincorporated Areas | July 7, 2004, July 14, 2004, Isanti County News | Mr. George Larson, Chairman, Isanti County Board of Commissioners, Isanti County Courthouse, 555 18th Avenue, SW, Cambridge, MN 55008 | July 21, 2004 | 270197
Missouri:
Clay (Case No.: 02-07-552P) | Village of Glenaire | July 21, 2004, July 28, 2004, The Liberty Tribune | The Honorable Bryan Smith, Mayor, City of Glenaire, P.O. Box 766, Glenaire, MO 64068 | Oct. 27, 2004 | 290092
Jefferson (Case No.: 04-07-035P) | Unincorporated Areas | June 23, 2004, June 30, 2004, Jefferson County Journal | Mr. Mark Mertens, Presiding Commissioner, Jefferson County, P.O. Box 100, County Courthouse, Hillsboro, MO 63050-0100 | Sept. 29, 2004 | 290808
Clay (Case No.: 02-07-552P) | City of Liberty | July 21, 2004, July 28, 2004, The Liberty Tribune | The Honorable Stephen Hawkins, Mayor, City of Liberty, 611 Lancelot Drive, Liberty, MO 64069 | Oct. 27, 2004 | 290096
New Mexico:
Bernalillo (Case No.: 04-06-1193P) | City of Albuquerque | July 22, 2004, July 29, 2004, Albuquerque Journal | The Honorable Martin Chavez, Mayor, City of Albuquerque, P.O. Box 1293, Albuquerque, NM 87103 | July 9, 2004 | 350002
Bernalillo (Case No.: 04-06-1193P) | Unincorporated Areas | July 22, 2004, July 29, 2004, Albuquerque Journal | Mr. Tom Rutherford, Chairman, Bernalillo County Commission, One Civic Plaza NW, Albuquerque, NM 87102 | July 9, 2004 | 350001
Sandoval (Case No.: 03-06-681P) | Town of Bernalillo | June 17, 2004, June 24, 2004, Albuquerque Journal | The Honorable Charles Aguilar, Mayor, Town of Bernalillo, P.O. Box 638, Bernalillo, NM 87004 | June 4, 2004 | 350056
Sandoval (Case No.: 03-06-681P) | City of Rio Rancho | June 17, 2004, June 24, 2004, The Observer | The Honorable Jim Owen, Mayor, City of Rio Rancho, 3900 Southern Boulevard, Rio Rancho, NM 87124 | June 4, 2004 | 350146
Ohio:
Licking (Case No.: 04-05-0765P) | Unincorporated Areas | July 19, 2004, July 26, 2004, The Advocate | Mr. Albert Ashbrook, President, Licking County, Board of Commissioners, 20 South Second Street, Newark, OH 43055 | Aug. 2, 2004 | 390328
Shelby (Case No.: 04-05-2336P) | Unincorporated Areas | Aug. 12, 2004, Aug. 19, 2004, The Sidney Daily News | Mr. Larry Klainhans, Chairman, Shelby County Board of Commissioners, 129 East Court Street, Suite 100, Sidney, OH 45365 | July 22, 2004 | 390503
Oklahoma
Mayes (Case No.: 04-06-575P) | Unincorporated Areas | Aug. 3, 2004, Aug. 10, 2004, The Daily Times | Mr. Jim Montgomery, Chairperson, Mayes County Board of Commissioners, P.O. Box 95, County Courthouse, Pryor, OK 74362-0095 | July 8, 2004 | 400458
Tulsa (Case No.: 04-06-1737P) | City of Owasso | Aug. 12, 2004, Aug. 19, 2004, Owasso Reporter | The Honorable Susan Kimball, Mayor, City of Owasso, P.O. Box 180, Owasso, OK 74055 | Nov. 18, 2004 | 400210
Payne (Case No.: 03-06-840P) | Unincorporated Areas | July 21, 2004, July 28, 2004, The News Press | Ms. Gloria Hesser, Payne County Commissioner, 2600 S. Main Street, Suite C, Stillwater, OK 74074 | Oct. 27, 2004 | 400493
Payne (Case No.: 03-06-840P) | City of Stillwater | July 21, 2004, July 28, 2004, The News Press | The Honorable Bud Lacy, Mayor, City of Stillwater, P.O. Box 1449, Stillwater, OK 74076 | Oct. 27, 2004 | 400493
Tulsa (Case No.: 03-06-1946P) | City of Tulsa | Aug. 18, 2004, Aug. 25, 2004, Tulsa World | The Honorable Bill LaFortune, Mayor, City of Tulsa, City Hall, 200 Civic Center, Tulsa, OK 74103 | Nov. 24, 2004 | 405381
Texas
Brazoria (Case No.: 03-06-2336P) | City of Angleton | June 30, 2004, July 7, 2004, The Facts | The Honorable L.M. Sebesta, Jr., Mayor, City of Angleton, 2372 East Highway 35, Angleton, TX 77515 | Oct. 6, 2004 | 480064
Tarrant (Case No.: 03-06-2875P) | City of Bedford | Aug. 24, 2004, Aug. 31, 2004, The Star Telegram | The Honorable R.D. Hurt, Mayor, City of Bedford, 200 Forest Ridge Drive, Bedford, TX 76021 | Aug. 27, 2004 | 480585
Brazoria (Case No.: 03-06-2336P) | Unincorporated Areas | June 30, 2004, July 7, 2004, The Facts | The Honorable John Willy, Judge, Brazoria County, 111 East Locust Street, Angleton, TX 77515 | Oct. 6, 2004 | 485458
Dallas (Case No.: 04-06-228P) | City of Carrollton | July 28, 2004, Aug. 4, 2004, The Carrollton Leader | The Honorable Mark Stokes, Mayor, City of Carrollton, 1945 East Jackson Road, Carrollton, TX 75006 | July 15, 2004 | 480167
Tarrant (Case No.: 03-06-1204P) | City of Colleyville | Sept. 2, 2004, Sept. 9, 2004, The N.E. Tarrant County Morning News | The Honorable Joe Hocutt, Mayor, City of Colleyville, P.O. Box 185, Colleyville, TX 76034-0185 | Dec. 9, 2004 | 480590
Comal (Case No.: 04-06-127P) | Unincorporated Areas | June 23, 2004, June 30, 2004, Comal County Beacon | The Honorable Danny Scheel, Judge, Comal County, 199 Main Plaza, New Braunfels, TX 78130 | June 4, 2004 | 485463
Dallas (Case No.: 03-06-1942P) | City of Dallas | Aug. 24, 2004, Aug. 31, 2004, Dallas Morning News | The Honorable Laura Miller, Mayor, City of Dallas, Dallas City Hall, 1500 Marilla Street, Room 5EN, Dallas, TX 75201-6390 | Nov. 30, 2004 | 480171
Denton (Case No.: 04-06-664P) | City of Denton | July 21, 2004, July 28, 2004, Denton Record Chronicle | The Honorable Euline Brock, Mayor, City of Denton, 215 East McKinney Street, Denton, TX 76201 | June 29, 2004 | 480194
Tarrant (Case No.: 04-06-875P) | City of Euless | July 1, 2004, July 8, 2004, The Star Telegram | The Honorable Mary Lib Saleh, Mayor, City of Euless, 201 N. Ector Drive—Building B, Euless, TX 76039 | June 4, 2004 | 480593
Fort Bend (Case No.: 03-06-2671P) | Unincorporated Areas | Sept. 1, 2004, Sept. 8, 2004, Fort Bend Star | The Hon. Robert E. Hebert, PhD, Judge, Fort Bend County, 301 Jackson Street, Richmond, TX 77469 | Dec. 9, 2004 | 480228
Tarrant (Case No.: 04-06-1188P) | City of Fort Worth | Sept. 1, 2004, Sept. 8, 2004, The Star Telegram | The Hon. Michael J. Moncrief, Mayor, City of Fort Worth, 1000 Throckmorton Street, Fort Worth, TX 76102 | Dec. 8, 2004 | 480596
Tarrant (Case No.: 04-06-038P) | City of Fort Worth | Aug. 18, 2004, Aug. 25, 2004, The Star Telegram | The Hon. Michael J. Moncrief, Mayor, City of Fort Worth, 1000 Throckmorton Street, Fort Worth, TX 76102 | July 26, 2004 | 480596
Tarrant (Case No.: 03-06-2694P) | City of Fort Worth | June 30, 2004, July 7, 2004, The Star Telegram | The Hon. Michael J. Moncrief, Mayor, City of Fort Worth, 1000 Throckmorton Street, Fort Worth, TX 76102 | Oct. 6, 2004 | 480596
Tarrant (Case No.: 04-06-864P) | City of Fort Worth | July 14, 2004, July 21, 2004, The Star Telegram | The Hon. Michael J. Moncrief, Mayor, City of Fort Worth, 1000 Throckmorton Street, Fort Worth, TX 76102 | June 23, 2004 | 480596
Tarrant (Case No.: 03-06-2546P) | City of Fort Worth | June 10, 2004, June 17, 2004, The Star Telegram | The Hon. Michael J. Moncrief, Mayor, City of Fort Worth, 1000 Throckmorton Street, Fort Worth, TX 76102 | May 14, 2004 | 480596
Collin (Case No.: 03-06-2038P) | City of Frisco | Aug. 6, 2004, Aug. 13, 2004, The Frisco Enterprise | The Honorable Mike Simpson, Mayor, City of Frisco, 6891 Main Street, Frisco, TX 75034 | July 21, 2004 | 480134
Harris (Case No.: 03-06-1393P) | Unincorporated Areas | Aug. 17, 2004, Aug. 24, 2004, The Houston Chronicle | The Honorable Robert A. Eckels, Judge, Harris County, 1001 Preston, Suite 911, Houston, TX 77002 | July 23, 2004 | 480287
Tarrant (Case No.: 03-06-1204P) | City of Hurst | Sept. 2, 2004, Sept. 9, 2004, The Star Telegram | The Honorable Richard Ward, Mayor, City of Hurst, 1505 Precinct Line Road, Hurst, TX 76054 | Dec. 9, 2004 | 480601
Tarrant (Case No.: 03-06-2875P) | City of Hurst | Aug. 24, 2004, Aug. 31, 2004, The Star Telegram | The Honorable Richard Ward, Mayor, City of Hurst, 1505 Precinct Line Road, Hurst, TX 76054 | Aug. 27, 2004 | 480601
Tarrant (Case No.: 03-06-2672P) | City of Hurst | July 21, 2004, July 28, 2004, The Star Telegram | The Honorable Bill Souder, Mayor, City of Hurst, 1505 Precinct Line Road, Hurst, TX 76054 | July 30, 2004 | 480601
Tarrant (Case No.: 03-05-1850P) | City of Hurst | Oct. 1, 2004, Oct. 8, 2004, The Star Telegram | The Honorable Richard Ward, Mayor, City of Hurst, 1505 Precinct Line Road, Hurst, Texas 76054 | Oct. 7, 2004 | 480601
Harris (Case No.: 03-06-2671P) | City of Houston | Sept. 2, 2004, Sept. 9, 2004, The Houston Chronicle | The Honorable Bill White, Mayor, City of Houston, P.O. Box 1562, Houston, TX 77251 | Dec. 9, 2004 | 480296
Tarrant (Case No.: 04-06-1017P) | City of Mansfield | Sept. 2, 2004, Sept. 9, 2004, Mansfield News Mirror | The Honorable Mel Neuman, Mayor, City of Mansfield, 1200 East Broad Street, Mansfield, TX 76063-0337 | Aug. 17, 2004 | 480606
Collin (Case No.: 03-06-2534P) | City of McKinney | Aug. 11, 2004, Aug. 18, 2004, McKinney Courier-Gazette | The Honorable Bill Whitfield, Mayor, City of McKinney, P.O. Box 517, McKinney, TX 75070 | Nov. 17, 2004 | 480135
Dallas (Case No.: 03-06-2530P) | City of Mesquite | July 29, 2004, Aug. 5, 2004, The Mesquite News | The Honorable Mike Anderson, Mayor, City of Mesquite, P.O. Box 850137, Mesquite, TX 75185 | Nov. 4, 2004 | 485490
Fort Bend (Case No.: 03-06-2671P) | City of Missouri City | Sept. 2, 2004, Sept. 9, 2004, Fort Bend Mirror | The Honorable Allen Owen, Mayor, City of Missouri City, 1522 Texas Parkway, Missouri City, TX 77489 | Dec. 9, 2004 | 480304
Collin (Case No.: 04-06-027P) | City of Plano | Sept. 3, 2004, Sept. 10, 2004, Plano Star Courier | The Honorable Pat Evans, Mayor, City of Plano, P.O. Box 860358, Plano, TX 75086-0358 | Dec. 10, 2004 | 480140
Collin (Case No.: 03-06-2548P) | City of Plano | Aug. 4, 2004, Aug. 11, 2004, Plano Star Courier | The Honorable Pat Evans, Mayor, City of Plano, 1520 Avenue K, Plano, TX 75086-0358 | Aug. 17, 2004 | 480140
Tarrant (Case No.: 03-06-848P) | City of Richland Hills | Aug. 18, 2004, Aug. 25, 2004, N.E. Tarrant County Morning News | The Honorable Nelda Stroder, Mayor, City of Richland Hills 3200 Diana Drive, Richland Hills, TX 76118 | July 20, 2004 | 480608
Tarrant (Case No.: 04-06-864P) | City of Saginaw | July 14, 2004, July 21, 2004, The Star Telegram | The Honorable Frankie Robins, Mayor, City of Saginaw, P.O. Box 79070, Saginaw, TX 76179 | June 23, 2004 | 480610
Bexar (Case No.: 03-06-1947P) | City of San Antonio | Aug. 31, 2004, Sept. 7, 2004, San Antonio Express News | The Honorable Ed Garza, Mayor, City of San Antonio, P.O. Box 839966, San Antonio, TX 78283-3966 | Aug. 12, 2004 | 480045
Bexar (Case No.: 03-06-1745P) | City of San Antonio | June 16, 2004, June 23, 2004, San Antonio Express News | The Honorable Ed Garza, Mayor, City of San Antonio, P.O. Box 839966, San Antonio, TX 78283-3966 | Sept. 22, 2004 | 480045
Bexar (Case No.: 03-06-829P) | City of San Antonio | June 30, 2004, July 7, 2004, San Antonio Express News | The Honorable Ed Garza, Mayor, City of San Antonio, P.O. Box 839966, San Antonio, TX 78283-3966 | Oct. 6, 2004 | 480045
Tarrant (Case No.: 04-06-866P) | City of Southlake | June 23, 2004, June 30, 2004, The Star Telegram | The Honorable Andy Wambsganss, Mayor, City of Southlake, 1400 Main Street, Southlake, TX 76092 | June 16, 2004 | 480612
Tarrant (Case No.: 04-06-1192P) | City of North Richland Hills | Sept. 16, 2004, Sept. 23, 2004, N.E. Tarrant County Morning News | The Honorable Oscar Trevino, Jr., P.E., Mayor, City of N. Richland Hills, P.O. Box 820609, North Richland Hills, TX 76182 | Aug. 23, 2004 | 480607
Wise (Case No.: 03-06-2058P) | Unincorporated Areas | July 15, 2004, July 22, 2004, Wise County Messenger | The Honorable Dick Chase, Judge, Wise County, P.O. Box 393, Decatur, TX 76231-0393 | Oct. 21, 2004 | 481051

(Catalog of Federal Domestic Assistance No. 83.100, “Flood Insurance.”)
Dated: November 17, 2004.
David I. Maurstad,
Acting Director, Mitigation Division, Emergency Preparedness and Response Directorate.

[FR Doc. 04-26599 Filed 12-2-04; 8:45 am]

BILLING CODE 9110-12-P